DEPARTMENT OF ENERGY

Federal Energy Regulatory Commission

Combined Notice of Filings

Take notice that the Commission has received the following Natural Gas Pipeline Rate and Refund Report filings:

Filings Instituting Proceedings

Docket Numbers: RP15-138-000.

Applicants: Great Lakes Gas Transmission Limited Par.

Description: § 4(d) rate filing per 154.204: T Rate Schedules—Volume No. 2 to be effective 11/1/2014.

Filed Date: 11/3/14.

Accession Number: 20141103-5029.

Comments Due: 5 p.m. ET 11/17/14.

Docket Numbers: RP15-139-000.

Applicants: ANR Pipeline Company.

Description: § 4(d) rate filing per 154.204: X-Rate Schedules Volume No. 2 to be effective 11/1/2014.

Filed Date: 11/3/14.

Accession Number: 20141103-5041.

Comments Due: 5 p.m. ET 11/17/14.

Docket Numbers: RP15-140-000.

Applicants: Texas Eastern Transmission, LP.

Description: § 4(d) rate filing per 154.204: ConEd 11-1-2014 NJNY Dual Fuel Release to be effective 11/1/2014.

Filed Date: 11/3/14.

Accession Number: 20141103-5042.

Comments Due: 5 p.m. ET 11/17/14.

Docket Numbers: RP15-141-000.

Applicants: Kern River Gas Transmission Company.

Description: § 4(d) rate filing per 154.204: 2014 Correction to Miscellaneous to be effective 12/1/2014.

Filed Date: 11/3/14.

Accession Number: 20141103-5050.

Comments Due: 5 p.m. ET 11/17/14.

Docket Numbers: RP15-142-000.

Applicants: Rockies Express Pipeline LLC.

Description: § 4(d) rate filing per 154.204: Neg Rate 2014-11-3 Antero to be effective 11/1/2014.

Filed Date: 11/3/14.

Accession Number: 20141103-5070.

Comments Due: 5 p.m. ET 11/17/14.

Docket Numbers: RP15-143-000.

Applicants: Algonquin Gas Transmission, LLC.

Description: § 4(d) rate filing per 154.204: Nov 2014 Re-releases of Ramapo Capacity to be effective 11/1/2014.

Filed Date: 11/3/14.

Accession Number: 20141103-5075.

Comments Due: 5 p.m. ET 11/17/14.

Docket Numbers: RP15-144-000.

Applicants: Gulf South Pipeline Company, LP.

Description: § 4(d) rate filing per 154.204: Cap Rel Neg Rate Agmt (Petrohawk 41448 to Texla 43360) to be effective 11/1/2014.

Filed Date: 11/3/14.

Accession Number: 20141103-5076.

Comments Due: 5 p.m. ET 11/17/14.

Docket Numbers: RP15-145-000.

Applicants: Southwestern Energy Services Company, Chesapeake Energy Marketing Inc..

Description: Joint Petition for Limited Waiver and Request for Expedited Action of Chesapeake Energy Marketing, Inc. and Southwestern Energy Services Company.

Filed Date: 11/3/14.

Accession Number: 20141103-5138.

Comments Due: 5 p.m. ET 11/13/14.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP14-886-001.

Applicants: Equitrans, L.P.

Description: Compliance filing per 154.203: Compliance Filing—Offers to Purchase Capacity to be effective 10/16/2014.

Filed Date: 11/3/14.

Accession Number: 20141103-5096.

Comments Due: 5 p.m. ET 11/17/14.

Docket Numbers: RP14-887-001.

Applicants: Rager Mountain Storage Company LLC.

Description: Compliance filing per 154.203: Compliance Filing—Offers to Purchase Capacity to be effective 10/16/2014.

Filed Date: 11/3/14.

Accession Number: 20141103-5097.

Comments Due: 5 p.m. ET 11/17/14.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 04, 2014.
Nathaniel J. Davis, Sr.,
Deputy Secretary.

[FR Doc. 2014-26758 Filed 11-12-14; 8:45 am]

BILLING CODE 6717-01-P